DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomics of Users and Non Users of Grays Reef National Marine Sanctuary.

OMB Control Number: 0648-0625.

Form Number(s): None.

Type of Request: Regular (reinstatement with changes of a previously approved information collection).

Number of Respondents: 1,440.

Average Hours per Response: 30 minutes.

Burden Hours: 293.

Needs and Uses: This request is for a reinstatement, with changes, of a previous information collection.

NOAA, through its National Ocean Service, Office of National Marine Sanctuaries, is replicating a study done in 2010-2011 on users and non-users of Gray's Reef National Marine Sanctuary (GRNMS) off the coast of Georgia. The study will support analysis of its current regulations to support management plan revision, which could include changes in regulations. The study will collect information to assess recreational uses of GRNMS and surrounding areas off the coast of Georgia, demographic profiles, and attitudes on GRNMS current regulations, especially the research only area, which displaced recreational fishing. In addition, user perceptions of the conditions of GRNMS natural resources/environment will be obtained.

Affected Public: Individuals or households; business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 11, 2017.
Sarah Brabson,
NOAA PRA Clearance Officer.

[FR Doc. 2017-17295 Filed 8-15-17; 8:45 am]

BILLING CODE 3510-NK-P